INTERNATIONAL TRADE COMMISSION

[USITC SE-19-012]

Sunshine Act Meetings

Agency Holding the Meeting: United States International Trade Commission.

TIME AND DATE: April 24, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-602 and 731-TA-1412 (Final) (Steel Wheels from China). The Commission is currently scheduled to complete and file its determinations and views of the Commission by May 6, 2019.

5. Outstanding action jackets: None.

In accordance with Commission policy, subject matter listed above, not disposed of at the scheduled meeting, may be carried over to the agenda of the following meeting.

By order of the Commission.
Issued: April 17, 2019.
William Bishop,
Supervisory Hearings and Information Officer.

[FR Doc. 2019-08072 Filed 4-17-19; 4:15 pm]

BILLING CODE 7020-02-P